DEPARTMENT OF COMMERCE

National Oceanic and Atmospheric Administration

[I.D. 082702G]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Reef Fish Stock Assessment Panel (RFSAP).

DATES: This meeting will begin at 9 a.m. on Tuesday, September 17, and conclude by 12 noon on Friday, September 20, 2002.

ADDRESSES: The meeting will be held at the NMFS Southeast Fisheries Science Center, 75 Virginia Beach Drive, Miami, FL.

FOR FURTHER INFORMATION CONTACT: Steven Atran, Population Dynamics Statistician, Gulf of Mexico Fishery Management Council, 3018 U.S. Highway 301 North, Suite 1000, Tampa, FL 33619; telephone: 813-228-2815.

SUPPLEMENTARY INFORMATION: The RFSAP will convene to review stock assessments on the status of the red grouper and yellowedge grouper stocks in the Gulf of Mexico. These stock assessments were prepared by the NMFS and will be presented to the RFSAP. The last red grouper assessment was made in 1999. In October 2000, NMFS declared red grouper to be overfished based on the 1999 assessment plus additional analyses requested by the RFSAP. In July 2002, the Council approved a red grouper rebuilding plan, which is being submitted to NMFS for review, approval and implementation. There have been no previous assessments of yellowedge grouper, and the status of the stock is unknown.

The RFSAP is composed of biologists who are trained in the specialized field of population dynamics. They advise the Council on the status of stocks and, when necessary, recommend a level of acceptable biological catch (ABC) needed to prevent overfishing or to effect a recovery of an overfished stock. They may also recommend catch restrictions needed to attain management goals.

Based on its review of the red grouper and yellowedge grouper stock assessments, the RFSAP may recommend whether to declare the stocks overfished and/or undergoing overfishing, and may recommend a range of acceptable biological catch (ABC) for 2003. The RFSAP may also recommend management measures to achieve the ABC.

The conclusions of the RFSAP will be reviewed by the Council's Standing and Special Reef Fish Scientific and Statistical Committee (SSC), Socioeconomic Panel (SEP), and Reef Fish Advisory Panel (RFAP) at meetings to be held in October, 2002. Red grouper is a component of the shallow-water grouper complex (which consists of red grouper, gag, yellowfin grouper, black grouper, scamp, yellowmouth grouper, rock hind, and red hind). Yellowedge grouper is a component of the deep-water grouper complex (which consists of misty grouper, snowy grouper, yellowedge grouper, warsaw grouper, speckled hind, and, after the shallow-water grouper quota is filled, scamp). The Council may set year 2003 total allowable catches (TAC) as well as other management measures for the red grouper component of the shallow-water grouper complex and the yellowedge grouper component of the deep-water grouper complex at its meeting in Key Largo, FL on November 12-15, 2002.

Although other non-emergency issues not on the agendas may come before the RFSAP for discussion, in accordance with the Magnuson-Stevens Fishery Conservation and Management Act, those issues may not be the subject of formal action during these meetings. Actions of the RFSAP will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Anne Alford at the above address by September 10, 2002.

Dated: August 27, 2002.
Richard W. Surdi,
Acting Director, Office of Sustainable Fisheries, National Marine Fisheries Service.

[FR Doc. 02-22353 Filed 8-30-02; 8:45 am]

BILLING CODE 3510-22-S